FEDERAL COMMUNICATIONS COMMISSION

Notice of Public Information Collection(s) Being Submitted to OMB for Review and Approval

November 28, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 8, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0684.

Title: Amendment to the Commission's Rules Regarding a Plan for Sharing Costs of Microwave Relocation, WT Docket No. 95-157, FCC No. 00-123

Form Number: N/A.

Type of Review: Revision of a currently approved collection.

Respondents: Business or other for-profit entities; Individuals or households.

Number of Respondents: 2,000.

Estimate Time Per Response: 54 mins. (avg.).

Frequency of Response: Biennial and on occasion reporting requirements; Third party disclosure.

Total Annual Burden: 1,790 hours.

Total Annual Costs: $862,000.

Needs and Uses: On April 5, 2000, the FCC adopted an Order on Reconsideration which revised its rules to effectuate the relocation of fixed microwave incumbents from the 2 GHz band to clear spectrum for the development of PCS. In doing so, the FCC implemented its plan for PCS relocators and subsequent PCS licensees to share the costs of relocating existing 2 GHz microwave facilities, thus providing for a fair and efficient relocation process. These rules, which govern both the relocation and cost-sharing plans, foster the development of competitive broadband PCS service throughout the country, while permitting incumbent providers of microwave service to relocate to higher spectrum bands. This information collection facilitates dispute resolution for PCS relocators and microwave licensees independent of the Commission and assists PCS relocators and microwave licensees when they negotiate relocation agreements. Furthermore, the information collection helps two industry clearinghouses maintain a national database, determine reimbursement obligations of subsequent PCS entities under the Commission's cost-sharing rules, and notify subsequent PCS entities of their obligations.

Federal Communications Commission.
Magalie Roman Salas,
Secretary.

[FR Doc. 00-31171 Filed 12-6-00; 8:45 am]

BILLING CODE 6712-01-U